DEPARTMENT OF HOMELAND SECURITY

Coast Guard

33 CFR Part 117

[Docket No. [USCG-2025-0464]

RIN 1625-AA09

Drawbridge Operation Regulation; Atlantic Intracoastal Waterway, Fort Lauderdale, FL

AGENCY: Coast Guard, DHS.

ACTION: Final rule.

SUMMARY: The Coast Guard is changing the operating schedule that governs the SE 17th Street (Brooks Memorial) Bridge, across the Atlantic Intracoastal Waterway (AICW), mile 1065.9, at Fort Lauderdale, FL. This action will assist with vehicle congestion during weekday rush hour periods by limiting drawbridge openings.

DATES: This rule is effective February 19, 2026.

ADDRESSES: To view documents mentioned in this preamble as being available in the docket, go to https://www.regulations.gov. Type the docket number (USCG-2025-0464) in the “SEARCH” box and click “SEARCH”. In the Document Type column, select “Supporting & Related Material.”

FOR FURTHER INFORMATION CONTACT: If you have questions on this rule, call or email Ms. Jennifer Zercher, Bridge Management Specialist, Southeast Coast Guard District; telephone 571-607-5951, email Jennifer.N.Zercher@uscg.mil.

SUPPLEMENTARY INFORMATION:

I. Table of Abbreviations

CFR Code of Federal Regulations

DHS Department of Homeland Security

FR Federal Register

OMB Office of Management and Budget

NPRM Notice of Proposed Rulemaking

§ Section

U.S.C. United States Code

FL Florida

TD Temporary Deviation

AICW Atlantic Intracoastal Waterway

II. Background Information and Regulatory History

On June 16, 2025, the Coast Guard published a Notice of temporary deviation from regulations; with a request for comments, entitled “Drawbridge Operation Regulation; Atlantic Intracoastal Waterway, Fort Lauderdale, FL” in the Federal Register (90 FR 25148), to test this operating schedule for the SE 17th Street (Brooks Memorial) Bridge. During the comment period that ended July 31, 2025, we received 157 comments, and those comments are addressed in Section IV of this Final Rule.

On July 24, 2025, the Coast Guard published a Notice of Proposed Rulemaking entitled “Drawbridge Operation Regulation; Atlantic Intracoastal Waterway, Fort Lauderdale, FL” in the Federal Register (90 FR 34778). There we stated why we issued the NPRM and invited comments on our proposed regulatory action related to this regulatory change. During the comment period that ended August 25, 2025, we received four comments, and those comments are addressed in Section IV of this Final Rule.

III. Legal Authority and Need for Rule

The Coast Guard is issuing this rule under authority 33 U.S.C. 499. SE 17th Street (Brooks Memorial) Bridge across the AICW, mile 1065.9, at Fort Lauderdale, FL, is a bascule bridge with a 55-foot vertical clearance at mean high water in the closed position. The normal operating schedule for the bridge is set forth in 33 CFR 117.261(bb)(8).

The City of Fort Lauderdale requested the Coast Guard consider additional opening restrictions during weekday rush hour periods to assist with vehicle congestion. The drawbridge currently opens twice an hour for navigation. This change adds additional opening restrictions during weekday rush hour periods.

IV. Discussion of Comments, Changes and the Final Rule

The Coast Guard provided a 45-day and 30-day comment period during the temporary deviation and NPRM and received a total of 161 comments. Most of the comments, 145, were in favor of the proposed change. The majority of commentors in favor of the proposed changes, feel over development and the proximity of the convention center are major aggravating factors in vehicle congestion as little to no improvements to roadway infrastructure are occurring. They state when the drawbridge opens during rush hour, it exacerbates vehicle congestion. Additional concern was raised for seasonal traffic and drawbridge operations. South Florida has a temporary increase in population from September through May. The proposed changes will assist with vehicle congestion during rush hour, however, improvements to roadway infrastructure should be considered by state and local agencies.

There were four duplicate comments and two comments that were outside the scope of the proposed rule. Two comments were against the proposed rule stating they feel the drawbridge should remain on its current opening schedule and that due to other factors surrounding the drawbridge further restrictions should not be imposed. This will be addressed in the following paragraph.

Alternate operating schedules were suggested by eight commentors. The alternate schedules included having the drawbridge open only once an hour, daily, allowing the drawbridge to remain in the down/closed position during the designated rush hour times and extend designated rush hour times. The AICW is a Federal Project Waterway that extends over 1,500 miles from Boston to Florida Bay. It is the main waterway artery for all commercial and recreational marine traffic that are unable to safely transit offshore. While not always convenient, land traffic has multiple alternate routes to cross the AICW. The Coast Guard has established a fixed security zone within Port Everglades. This restricts vessel movements within the vicinity of the drawbridge and the ability to allow vessels to safely pass is necessary. This area has strong currents which make it challenging for larger vessels to maintain steerage while waiting for the drawbridge to open. The Coast Guard is not currently imposing further restrictions beyond the proposed rule for the reasons stated above.

The current operating schedule allows the SE 17th Street (Brooks Memorial) Bridge to open at the top and bottom of each hour. Under this rule, the bridge will continue to open at the top and bottom of each hour, except that on weekdays, the bridge will open only at the top of the hour from 6:50 a.m. to 9:10 a.m. and from 3:50 p.m. to 6:10 p.m. At all other times the bridge will open at the top and bottom of each hour. Vessels that can pass beneath the bridge without an opening may do so at any time. Vessels exempted from specific requirements can still request an opening any time.

This rule changes the specific requirements for the SE 17th Street (Brooks Memorial) Bridge at Fort Lauderdale, FL. Additionally, this rule will republish § 117.261 to reorganize the paragraph structure to follow current regulatory drafting requirements.

V. Regulatory Analyses

We developed this rule after considering numerous statutes and Executive Orders related to rulemaking. Below we summarize our analyses based on a number of these statutes and Executive Orders.

A. Impact on Small Entities

The Regulatory Flexibility Act of 1980, 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received zero comments from the Small Business Administration on this rule. The Coast Guard certifies under 5 U.S.C. 605(b) that this rule will not have a significant economic impact on a substantial number of small entities for the following reasons. This regulatory action determination is based on the ability that vessels can still transit the bridge during the scheduled times and vessels able to pass without an opening may do so at any time.

Under section 213(a) of the Small Business Regulatory Enforcement Fairness Act of 1996 (Pub. L. 104-121), we want to assist small entities in understanding this rule. If the rule will affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

B. Collection of Information

This rule calls for no new collection of information under the Paperwork Reduction Act of 1995 (44 U.S.C. 3501-3520).

C. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Management Directive 023-01, Rev. 1, associated implementing instructions, and Environmental Planning Policy COMDTINST 5090.1 (series) which guide the Coast Guard in complying with the National Environmental Policy Act of 1969 (NEPA)(42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1. Revision No. 01.4

2. Revise and republish § 117.261 to read as follows:

§ 117.261 Atlantic Intracoastal Waterway from St. Marys River to Key Largo.

Public vessels of the United States and tugs with tows must be passed through the drawspan of each drawbridge listed in this section at any time.

(a) Bridge of Lions (SR A1A) Bridge, mile 777.9 at St. Augustine. The draw shall open on signal; except that, from 7 a.m. to 6 p.m. the draw need open only on the hour and half-hour; however, the draw need not open at 8 a.m., 12 noon, and 5 p.m. Monday through Friday except Federal holidays. From 7 a.m. to 6 p.m. on Saturdays, Sundays and Federal holidays the draw need only open on the hour and half-hour.

(b) George Musson (SR 44) Bridge, mile 845, at New Smyrna Beach. The draw shall open on signal, except that from 7 a.m. to 7 p.m., the draw shall open on the hour and half-hour, seven days a week.

(c) NASA Railroad Bridge, mile 876.6 at Titusville.

(1) The draw is not constantly tended.

(2) The draw is normally in the fully open position displaying flashing green lights to indicate that vessels may pass.

(3) When a train approaches the bridge, it stops and the operator initiates a command to lower the bridge. The lights go to flashing red and the draw lowers and locks, providing scanning equipment reveals nothing under the draw. The draw remains down until a manual raise command is initiated or will raise automatically 5 minutes after the intermediate track circuit is no longer occupied by a rail car.

(4) After the train has cleared, the draw opens and the lights return to flashing green.

(d) A1A North Causeway Bridge, mile 964.8 at Fort Pierce. The draw shall open on the hour and half-hour.

(e) Indiantown Road Bridge, mile 1006.2, at Jupiter. The draw shall open on the hour and half hour.

(f) Donald Ross Bridge, mile 1009.3, at North Palm Beach. The draw shall open on the hour and half-hour.

(g) PGA Boulevard Bridge, mile 1012.6, at North Palm Beach. The draw shall open on the hour and half-hour.

(h) Parker (US 1) Bridge, mile 1013.7, at Riviera Beach. The draw shall open on the quarter and three-quarter hour.

(i) Flagler Memorial (SR A1A) Bridge, mile 1021.8, at West Palm Beach.(1) The draw will open on the quarter and three-quarter hour, except Monday through Friday (except Federal holidays) from 7:30 a.m. to 9 a.m. and from 4 p.m. to 6 p.m., the draw need only open on the quarter hour.

(2) When the Presidential Security Zone is enforced, the draw will open on the quarter and three-quarter hour, except Monday through Friday (except Federal holidays) from 7:30 a.m. to 9 a.m. and from 2:15 p.m. to 6 p.m., the draw need only open on the quarter hour.

(j) Royal Park (SR 704) Bridge, mile 1022.6, at West Palm Beach. (1) The draw will open on the hour and half hour, except Monday through Friday (except Federal holidays) from 7:30 a.m. to 9 a.m. and from 4 p.m. to 6 p.m., the draw need only open on the half hour.

(2) When the Presidential Security Zone is enforced, the draw will open on the hour and half hour, except Monday through Friday (except Federal holidays) from 7:30 a.m. to 9 a.m. and from 2:15 p.m. to 6 p.m., the draw need only open on the half hour.

(k) Southern Boulevard (SR 80) Bridge, mile 1024.7, at West Palm Beach. (1) The draw will open on the quarter and three-quarter hour, except Monday through Friday (except Federal holidays) from 7:30 a.m. to 9 a.m. and from 4 p.m. to 6 p.m., the draw need only open on the quarter hour.

(2) When the Presidential Security Zone is enforced, the draw may be closed without advance notice to permit uninterrupted transit of dignitaries across the bridge. At all other times the bridge shall open on the quarter and three-quarter hour, or as directed by the on-scene designated representative.

(l) East Ocean Avenue Bridge, mile 1031.0, at Lantana. The draw shall open on the hour and half-hour.

(m) Ocean Avenue Bridge, mile 1035.0, at Boynton Beach. The draw shall open on the hour and half-hour.

(n) East Atlantic Avenue (SR 806) Bridge, mile 1039.6, at Delray Beach. The draw shall open on the quarter and three-quarter-hour.

(o) Linton Boulevard Bridge, mile 1041.1, at Delray Beach. The draw shall open on the hour and half-hour.

(p) Spanish River Boulevard Bridge, mile 1044.9, at Boca Raton. The draw shall open on the hour and half-hour.

(q) East Palmetto Park Road Bridge, mile 1047.5, at Boca Raton. The draw shall open on the hour and half-hour.

(r) East Camino Real Bridge, mile 1048.2, at Boca Raton. The draw shall open on the hour, twenty minutes past the hour and forty minutes past the hour.

(s) East Hillsboro Boulevard Bridge (SR 810), mile 1050.0 at Deerfield Beach. The draw shall open on the hour and half-hour.

(t) Northeast 14th Street Bridge, mile 1055.0 at Pompano Beach. The draw shall open on the quarter-hour and three-quarter hour.

(u) East Atlantic Boulevard (SR 814) Bridge, mile 1056.0 at Pompano Beach. The draw shall open on the hour and half-hour.

(v) East Commercial Boulevard (SR 870) Bridge, mile 1059.0, at Lauderdale-by-the-Sea. The draw shall open on the hour and half-hour.

(w) East Oakland Park Boulevard Bridge, mile 1060.5 at Fort Lauderdale. The draw shall open on the quarter-hour and three-quarter hour.

(x) East Sunrise Boulevard (SR 838) Bridge, mile 1062.6, at Fort Lauderdale. The draw shall open on the hour and half-hour. On the first weekend in May, the draw need not open from 4 p.m. to 6 p.m. on Saturday and Sunday, and, on the first Saturday in May, the draw need not open from 9:45 p.m. to 10:45 p.m.

(y) East Las Olas Bridge, mile 1064 at Fort Lauderdale. The draw shall open on the quarter-hour and three-quarter hour. On the first weekend in May, the draw need not open from 4 p.m. to 6 p.m. on Saturday and Sunday, and, on the first Saturday in May, the draw need not open from 9:45 p.m. to 10:45 p.m.

(z) Southeast 17th Street (Brooks Memorial) Bridge, mile 1065.9 at Fort Lauderdale. The draw shall open on the hour and half-hour; except that from 6:50 a.m. to 9:10 a.m. and from 3:50 p.m. to 6:10 p.m., Monday through Friday, except Federal holidays, the drawbridge shall open once an hour at the top of the hour.

(aa) Dania Beach Boulevard Bridge, mile 1069.4 at Hollywood. The draw shall open on the hour and half-hour.

(bb) Sheridan Street Bridge, mile 1070.5, at Hollywood. The draw shall open on the quarter-hour and three-quarter hour.

(cc) Hollywood Beach Boulevard (SR 820) Bridge, mile 1072.2 at Hollywood. The draw shall open on the hour and half-hour.

(dd) Hallandale Beach Boulevard (SR 824) Bridge, mile 1074.0 at Hallandale Beach. The draw shall open on the quarter-hour and three-quarter hour.

(ee) N.E. 163rd Street (SR 826) Bridge, mile 1078.0 at Sunny Isles Beach. The draw shall open on signal; except that, from 7 a.m. to 6 p.m. on Monday through Friday except Federal holidays, and from 10 a.m. to 6 p.m. on Saturdays, Sundays, and Federal holidays, the draw need open only on the quarter-hour and three-quarter hour.

(ff) Broad Causeway Bridge, mile 1081.4 at Bay Harbor Islands. The draw shall open on signal; except that, from 8 a.m. to 6 p.m., the draw need open only on the quarter-hour and three-quarter hour.

(gg) West 79th Street Bridge, mile 1084.6, at Miami. The draw shall operate as follows:

(1) Monday through Friday (except on Federal holidays):

(i) 7 a.m. to 10 a.m. the draw need only open on the hour.

(ii) 10 a.m. to 4 p.m. the draw need only open on the hour and half hour.

(iii) 4 p.m. to 7 p.m. the draw need only open on the hour.

(iv) 7 p.m. to 7 a.m. the draw shall open on signal.

(2) Saturday, Sunday, and Federal holidays the draw shall open on signal.

(hh) West Venetian Causeway Bridge, mile 1088.6, at Miami. The draw shall open on signal, except that from 7 a.m. to 7 p.m. daily, including Federal holidays, the draw need only open on the hour and half hour.

Dated: January 14, 2026.
Adam A. Chamie,
Rear Admiral, U.S. Coast Guard, Commander, Coast Guard Southeast District.

[FR Doc. 2026-00932 Filed 1-16-26; 8:45 am]

BILLING CODE 9110-04-P